DEPARTMENT OF ENERGY

Federal Energy Regulatory Commission

[Project No. 9202-178]

Upper Yampa Water Conservancy District; Notice of Application Accepted for Filing, Soliciting Comments, Motions To Intervene, and Protests

Take notice that the following hydroelectric application has been filed with the Commission and is available for public inspection:

a. Types of Application: Request to amend the project boundary, relocate portions of a recreational trail, and relocate a flowage area.

b. Project No.: 9202-178.

c. Date Filed: January 22, 2013, and supplemented February 7, 2013.

d. Applicant: Upper Yampa Water Conservancy District.

e. Name of Project: Stagecoach Hydropower Project.

f. Location: Yampa River, in Routt County, Colorado.

g. Filed Pursuant to: Federal Power Act, 16 U.S.C. 791a-825r.

h. Applicant Contact: Mr. Kevin McBride, District Manager, Upper Yampa Water Conservancy District, 3310 Clear Water Trail, P.O. Box 775529, Steamboat Springs, CO 80477, (970) 871-1035.

i. FERC Contact: Mr. Jeremy Jessup, (202) 502-6779, Jeremy.Jessup@ferc.gov.

j. Deadline for filing comments, motions to intervene, and protests, is 30 days from the issuance date of this notice by the Commission. All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the project number (P-9202-178) on any comments, motions, or recommendations filed.

k. Description of Request: The applicant proposes to relocate a recreation trail, modify the flowage area by adding approximately 3,500 cubic yards of fill in the project boundary, and amend the project boundary to exclude portions of the filled-in area and include the relocated recreation trail. The applicant is requesting to remove approximately 3.4 acres from within the project boundary, relocate approximately 1,550 linear feet of the recreation trail, and impact approximately 0.04 acres of the reservoir's 100-year flood plain area. The lands that the applicant proposes to remove from inside the project boundary will no longer be necessary for project purposes after the relocation of the recreation trail and modification of the flowage area. The applicant intends to convey the lands to a local developer for commercial site development once they are removed from the project boundary.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All motions to intervene, protests, or comments should relate to project works which are the subject of the application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: February 19, 2013.
Kimberly D. Bose,
Secretary.

[FR Doc. 2013-04273 Filed 2-22-13; 8:45 am]

BILLING CODE 6717-01-P